OVERSEAS PRIVATE INVESTMENT CORPORATION

Sunshine Act Meeting

Time and Date: Wednesday, November 10, 2004, 10 a.m. (Open Portion), 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters To Be Considered: 1. President's Report.

2. Approval of September 9, 2004 Minutes (Open Portion).

FURTHER MATTERS TO BE CONSIDERED: (Closed to the Public 10:15 a.m.).

1. Finance Project—Global.

2. Insurance Project—Israel.

3. Finance Project—Southeast Europe.

4. Approval of September 9, 2004 Minutes (Closed Portion).

5. Pending Major Projects.

6. Reports.

Contact Person for Information: Information on the meeting may be obtained from Connie M. Downs at (202) 336-8438.

Dated: October 27, 2004.
Connie M. Downs,
Corporate Secretary, Overseas Private Investment Corporation.

[FR Doc. 04-24357 Filed 10-27-04; 2:20 pm]

BILLING CODE 3210-01-M